DEPARTMENT OF ENERGY

Federal Energy Regulatory Commission

Combined Notice of Filings #1

Take notice that the Commission received the following electric corporate filings:

Docket Numbers: EC15-128-000.

Applicants: American Transmission Company LLC.

Description: Application for Authority to Acquire Transmission Facilities of American Transmission Company LLC.

Filed Date: 4/24/15.

Accession Number: 20150424-5164.

Comments Due: 5 p.m. ET 5/15/15.

Docket Numbers: EC15-129-000.

Applicants: 8point3 Energy Partners LP, Solar Star California XIII, LLC.

Description: Application for Authorization Under Section 203 of the Federal Power Act of 8point3 Energy Partners LP and Solar Star California XIII, LLC.

Filed Date: 4/24/15.

Accession Number: 20150424-5254.

Comments Due: 5 p.m. ET 5/15/15.

Take notice that the Commission received the following electric rate filings:

Docket Numbers: ER12-1739-001; ER11-2765-001; ER12-2310-003.

Applicants: Bethel Wind Energy LLC, Elk Wind Energy LLC, Zephyr Wind, LLC.

Description: Notice of Non-Material Change in Status of the Black Rock MBR Affiliates.

Filed Date: 4/24/15.

Accession Number: 20150424-5237.

Comments Due: 5 p.m. ET 5/15/15.

Docket Numbers: ER13-1864-002.

Applicants: Southwest Power Pool, Inc.

Description: Compliance filing per 35: SPP-MISO JOA Sec 8.1.2 Market-to-Market Compliance Filing in Docket ER13-1864 to be effective 3/1/2015.

Filed Date: 4/24/15.

Accession Number: 20150424-5263.

Comments Due: 5 p.m. ET 5/15/15.

Docket Numbers: ER15-760-001.

Applicants: Western Antelope Blue Sky Ranch A LLC.

Description: Supplement to December 30, 2014, February 19, 2015 and April 16, 2015 Western Antelope Blue Sky Ranch A LLC tariff filings.

Filed Date: 4/24/15.

Accession Number: 20150424-5242.

Comments Due: 5 p.m. ET 5/15/15.

Docket Numbers: ER15-762-001.

Applicants: Sierra Solar Greenworks LLC.

Description: Supplement to December 30, 2014, February 19, 2015 and April 16, 2015 Sierra Solar Greenworks LLC tariff filings.

Filed Date: 4/24/15.

Accession Number: 20150424-5238.

Comments Due: 5 p.m. ET 5/15/15.

Docket Numbers: ER15-978-001.

Applicants: Midcontinent Independent System Operator, Inc.

Description: Compliance filing per 35: 2015-04-24_SA 2738 Compliance ATC-WPSC PSA to be effective N/A.

Filed Date: 4/24/15.

Accession Number: 20150424-5167.

Comments Due: 5 p.m. ET 5/15/15.

Docket Numbers: ER15-979-001.

Applicants: Midcontinent Independent System Operator, Inc.

Description: Compliance filing per 35: 2015-04-24_SA 2739 Compliance ATC-UPPCo PSA to be effective N/A.

Filed Date: 4/24/15.

Accession Number: 20150424-5170.

Comments Due: 5 p.m. ET 5/15/15.

Docket Numbers: ER15-981-001.

Applicants: Midcontinent Independent System Operator, Inc.

Description: Compliance filing per 35: 2015-04-24_SA 2741 Compliance ATC-WEPC PSA to be effective N/A.

Filed Date: 4/24/15.

Accession Number: 20150424-5173.

Comments Due: 5 p.m. ET 5/15/15.

Docket Numbers: ER15-982-001.

Applicants: Midcontinent Independent System Operator, Inc.

Description: Compliance filing per 35: 2015-04-24_SA 2742 Compliance ATC-WPL FCA_Enbridge to be effective N/A.

Filed Date: 4/24/15.

Accession Number: 20150424-5175.

Comments Due: 5 p.m. ET 5/15/15.

Docket Numbers: ER15-983-001.

Applicants: Midcontinent Independent System Operator, Inc.

Description: Compliance filing per 35: 2015-04-24_SA 2743 Compliance ATC-WPL PCA (Didion) to be effective N/A.

Filed Date: 4/24/15.

Accession Number: 20150424-5176.

Comments Due: 5 p.m. ET 5/15/15.

Docket Numbers: ER15-984-001.

Applicants: Midcontinent Independent System Operator, Inc.

Description: Compliance filing per 35: 2015-04-24_SA 2744 Compliance ATC-WPL PCA_Dickinson to be effective N/A.

Filed Date: 4/24/15.

Accession Number: 20150424-5180.

Comments Due: 5 p.m. ET 5/15/15.

Docket Numbers: ER15-985-001.

Applicants: Midcontinent Independent System Operator, Inc.

Description: Compliance filing per 35: 2015-04-24_SA 2745 Compliance ATC-WPL PSA to be effective N/A.

Filed Date: 4/24/15.

Accession Number: 20150424-5186.

Comments Due: 5 p.m. ET 5/15/15.

Docket Numbers: ER15-986-001.

Applicants: Midcontinent Independent System Operator, Inc.

Description: Compliance filing per 35: 2015-04-24_SA 2746 Compliance ATC-MGE PCA to be effective N/A.

Filed Date: 4/24/15.

Accession Number: 20150424-5187.

Comments Due: 5 p.m. ET 5/15/15.

Docket Numbers: ER15-987-001.

Applicants: Midcontinent Independent System Operator, Inc.

Description: Compliance filing per 35: 2015-04-24_SA 2747 Compliance ATC-MGE PSA to be effective N/A.

Filed Date: 4/24/15.

Accession Number: 20150424-5192.

Comments Due: 5 p.m. ET 5/15/15.

Docket Numbers: ER15-1447-001.

Applicants: Mid-Georgia Cogen L.P.

Description: Tariff Amendment per 35.17(b): Supplement to MBR Application to be effective 6/3/2015.

Filed Date: 4/24/15.

Accession Number: 20150424-5152.

Comments Due: 5 p.m. ET 5/15/15.

Docket Numbers: ER15-1559-000.

Applicants: PJM Interconnection, L.L.C.

Description: Section 205(d) rate filing per 35.13(a)(2)(iii): Second Revised Service Agreement No. 2367 (Z1-088) to be effective 3/25/2015.

Filed Date: 4/23/15.

Accession Number: 20150423-5249.

Comments Due: 5 p.m. ET 5/14/15.

Docket Numbers: ER15-1560-000.

Applicants: Nevada Power Company.

Description: Section 205(d) rate filing per 35.13(a)(2)(iii): OATT Revisions to Attachment N to be effective 6/22/2015.

Filed Date: 4/23/15.

Accession Number: 20150423-5250.

Comments Due: 5 p.m. ET 5/14/15.

Docket Numbers: ER15-1561-000.

Applicants: Puget Sound Energy, Inc.

Description: Tariff Withdrawal per 35.15: Blaine TX SA No. 491 (Cancellation of Original) to be effective 4/24/2015.

Filed Date: 4/23/15.

Accession Number: 20150423-5251.

Comments Due: 5 p.m. ET 5/14/15.

Docket Numbers: ER15-1562-000.

Applicants: PJM Interconnection, L.L.C.

Description: Section 205(d) rate filing per 35.13(a)(2)(iii): PPL ISAs NQ112-126 to be effective 12/31/9998.

Filed Date: 4/24/15.

Accession Number: 20150424-5067.

Comments Due: 5 p.m. ET 5/15/15.

Docket Numbers: ER15-1563-000.

Applicants: Alabama Power Company.

Description: Section 205(d) rate filing per 35.13(a)(2)(iii): PowerSouth NITSA Amendment Filing (to upgrade Ft. Mitchell Delivery Point) to be effective 3/30/2015.

Filed Date: 4/24/15.

Accession Number: 20150424-5127.

Comments Due: 5 p.m. ET 5/15/15.

Docket Numbers: ER15-1564-000.

Applicants: Town Square Energy, LLC.

Description: Section 205(d) rate filing per 35.13(a)(2)(iii): Notice of Succession to be effective 4/2/2015.

Filed Date: 4/24/15.

Accession Number: 20150424-5265.

Comments Due: 5 p.m. ET 5/15/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2015.
Nathaniel J. Davis, Sr.,
Deputy Secretary.

[FR Doc. 2015-10144 Filed 4-30-15; 8:45 am]

BILLING CODE 6717-01-P